Title 3—

The President

Memorandum of April 6, 2018

Ending “Catch and Release” at the Border of the United States and Directing Other Enhancements to Immigration Enforcement

Memorandum for the Secretary of State[,] the Secretary of Defense[,] the Attorney General[,] the Secretary of Health and Human Services[, and] the Secretary of Homeland Security

Section 1. Purpose. (a) Human smuggling operations, smuggling of drugs and other contraband, and entry of gang members and other criminals at the border of the United States threaten our national security and public safety. The backlog of immigration-related cases in our administrative system is alarmingly large and has hindered the expeditious adjudication of outstanding cases. Border-security and immigration enforcement personnel shortages have become critical.

(b) In Executive Order 13767 of January 25, 2017 (Border Security and Immigration Enforcement Improvements), I directed the Secretary of Homeland Security to issue new policy guidance regarding the appropriate and consistent use of detention authority under the Immigration and Nationality Act (INA), including the termination of the practice known as “catch and release,” whereby aliens are released in the United States shortly after their apprehension for violations of our immigration laws. On February 20, 2017, the Secretary issued a memorandum taking steps to end “catch and release” practices. These steps have produced positive results. Still, more must be done to enforce our laws and to protect our country from the dangers of releasing detained aliens into our communities while their immigration claims are pending.

Therefore, by the authority vested in me as President by the Constitution and the laws of the United States of America, I hereby direct as follows:

Sec. 2. Ending “Catch and Release”. (a) Within 45 days of the date of this memorandum, the Secretary of Homeland Security, in coordination with the Secretary of Defense, the Attorney General, and the Secretary of Health and Human Services, shall submit a report to the President detailing all measures that their respective departments have pursued or are pursuing to expeditiously end “catch and release” practices. At a minimum, such report shall address the following:

(i) All measures taken pursuant to section 5(a) of Executive Order 13767 to allocate all legally available resources to construct, operate, control, or modify—or establish contracts to construct, operate, control, or modify—facilities to detain aliens for violations of immigration law at or near the borders of the United States;

(ii) All measures taken pursuant to section 5(b) of Executive Order 13767 to assign asylum officers to immigration detention facilities for the purpose of accepting asylum referrals and conducting credible fear determinations and reasonable fear determinations;

(iii) All measures taken pursuant to section 6 of Executive Order 13767 to ensure the detention of aliens apprehended for violations of immigration law;

(iv) All measures taken pursuant to section 11(a) of Executive Order 13767 to ensure that the parole and asylum provisions of Federal immigration law are not illegally exploited to prevent the removal of otherwise removable aliens;

(v) All measures taken pursuant to section 11(b) of Executive Order 13767 to ensure that asylum referrals and credible fear determinations pursuant to section 235(b)(1) of the INA (8 U.S.C. 1125(b)(1)) and 8 CFR 208.30, and reasonable fear determinations pursuant to 8 CFR 208.31, are conducted in a manner consistent with those provisions;

(vi) All measures taken pursuant to section 6 of Executive Order 13768 of January 25, 2017 (Enhancing Public Safety in the Interior of the United States), to ensure the assessment and collection of all authorized fines and penalties from aliens unlawfully present in the United States and from those who facilitate their unlawful presence in the United States;

(vii) A detailed list of all existing facilities, including military facilities, that could be used, modified, or repurposed to detain aliens for violations of immigration law at or near the borders of the United States; and

(viii) The number of credible fear and reasonable fear claims received, granted, and denied—broken down by the purported protected ground upon which a credible fear or reasonable fear claim was made—in each year since the beginning of fiscal year 2009.

(b) Within 75 days of the date of this memorandum, the Attorney General and the Secretary of Homeland Security, in consultation with the Secretary of Defense and the Secretary of Health and Human Services, shall submit a report to the President identifying any additional resources or authorities that may be needed to expeditiously end “catch and release” practices.

Sec. 3. Return of Removable Aliens to Their Home Countries or Countries of Origin. Within 60 days of the date of this memorandum, the Secretary of State and the Secretary of Homeland Security shall submit a report to the President detailing all measures, including diplomatic measures, that are being pursued against countries that refuse to expeditiously accept the repatriation of their nationals. The report shall include all measures taken pursuant to section 12 of Executive Order 13768 to implement the sanctions authorized by section 243(d) of the INA (8 U.S.C. 1253(d)), or a detailed explanation as to why such sanctions have not yet been imposed.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of State is hereby authorized and directed to publish this memorandum in the Federal Register.

THE WHITE HOUSE,

Washington, April 6, 2018

[FR Doc. 2018-07962

Filed 4-12-18; 11:15 am]

Billing code 4710-10-P